DEPARTMENT OF AGRICULTURE

Agricultural Marketing Service

7 CFR Part 911

[Docket No. FV97-911-1 PR]

Limes Grown in Florida and Imported Limes; Withdrawal of a Proposed Rule

AGENCY: Agricultural Marketing Service, USDA.

ACTION: Withdrawal of proposed rule.

SUMMARY: This action withdraws a portion of a proposed rule published in the Federal Register on April 29, 1997 (62 FR 23185), which would have increased the minimum size requirement prescribed under the lime marketing order and the lime import regulations for the month of June. The order regulates the handling of limes grown in Florida and is administered locally by the Florida Lime Administrative Committee (Committee). The spread of citrus canker in South Florida has decreased production and regulations have been suspended under the marketing order through February 24, 2003. Under section 8e of the Agricultural Marketing Agreement Act of 1937, the lime import regulations also have been suspended through February 24, 2003. Thus, an increase in the size requirements for Florida and imported limes would not be appropriate at this time.

DATES: The proposed rule published on April 29, 1997 (62 FR 23185) is partially withdrawn as of June 15, 2002.

FOR FURTHER INFORMATION CONTACT: Doris Jamieson, Marketing Specialist, Southeast Marketing Field Office, Marketing Order Administration Branch, Fruit and Vegetable Programs, AMS, USDA, 799 Overlook Drive, Suite A, Winter Haven, Florida 33884; telephone: (863) 324-3375, Fax: (863) 325-8793; or George Kelhart, Technical Advisor, Marketing Order Administration Branch, Fruit and Vegetable Programs, AMS, USDA, 1400 Independence Avenue, SW STOP 0237, Washington, DC 20250-0237; telephone: (202) 720-2491, Fax: (202) 720-8938.

Small businesses may request information on complying with this regulation by contacting Jay Guerber, Marketing Order Administration Branch, Fruit and Vegetable Programs, AMS, USDA, 1400 Independence Avenue, SW STOP 0237, Washington, DC 20250-0237; telephone: (202) 720-2491, Fax: (202) 720-8938, or E-mail: Jay.Guerber@usda.gov.

SUPPLEMENTARY INFORMATION: Marketing Agreement No. 126 and Marketing Order No. 911, both as amended (7 CFR part 911), regulate the handling of limes grown in Florida, hereinafter referred to as the “order.” The order is effective under the Agricultural Marketing Agreement Act of 1937, as amended (7 U.S.C. 601-674), hereinafter referred to as the “Act.”

This action withdraws a portion of a proposed rule published in the Federal Register on April 29, 1997, (62 FR 23185), which would have increased the minimum size requirement for limes and limes imported into the United States (7 CFR 911.344 and 944.209). Specifically, the Committee recommended increasing the minimum size requirement from 1⅞ inches to 2 inches in diameter for the month of June. Under section 8e of the Act, the same change had to be considered for imported limes. Since that proposal was issued, citrus canker has spread throughout South Florida. This outbreak has significantly reduced lime production and all regulations under the lime marketing order and the lime import regulation have been suspended through February 24, 2003 (67 FR 6837). The suspension is intended to reduce industry costs and help the industry recover from the effects of citrus canker. As a consequence, a size increase for June is not necessary at this time, and that portion of the April 1997 proposal is being withdrawn. The other portions of the proposed rule were finalized in a rule published in the Federal Register on August 26, 1997 (62 FR 45142).

Therefore, the portion of the proposed rule regarding a size increase for South Florida and imported limes during the month of June published in the Federal Register April 29, 1997, (62 FR 23185) is hereby withdrawn.

List of Subjects in 7 CFR Part 911

Limes, Marketing agreements, Reporting and recordkeeping requirements.

Authority: 7 U.S.C. 601-674.

Dated: June 10, 2002.
A.J. Yates,
Administrator, Agricultural Marketing Service.

[FR Doc. 02-15057 Filed 6-13-02; 8:45 am]

BILLING CODE 3410-02-P